DEPARTMENT OF COMMERCE

International Trade Administration

A-570-831

Fresh Garlic from the People's Republic Republic of China: Extension of Time Limit for Final Results of the Twelfth Administrative Review

AGENCY: Import Administration, International Trade Administration, Department of Commerce.

EFFECTIVE DATE: March 28, 2008.

FOR FURTHER INFORMATION CONTACT: Julia Hancock or Matthew Renkey, AD/CVD Operations, Office 9, Import Administration, International Trade Administration, U.S. Department of Commerce, 14th Street and Constitution Avenue, N.W., Washington, D.C. 20230; telephone: (202) 482-1394 and (202) 482-2312, respectively.

SUPPLEMENTARY INFORMATION:

Background

On December 10, 2007, the Department of Commerce (“Department”) published the preliminary results of this administrative review. See Fresh Garlic from the People's Republic of China: Notice of Preliminary Results and Preliminary Partial Rescission of the Twelfth Administrative Review, 72 FR 69652 (December 10, 2007) (“Preliminary Results”). The period of review for this administrative review is November 1, 2005, through October 31, 2006. The final results are currently due on April 8, 2008.

Extension of Time Limits for Final Results

Section 751(a)(3)(A) of the Tariff Act of 1930, as amended (“Act”), requires the Department to issue the final results in an administrative review of an antidumping duty order 120 days after the date on which the preliminary results are published. The Department may, however, extend the deadline for completion of the final results of an administrative review to 180 days if it determines it is not practicable to complete the review within the foregoing time period. See section 751(a)(3)(A) of the Act and 19 CFR 351.213(h)(2).

The Department finds that it is not practicable to complete the final results of the administrative review within this time limit. Specifically, after coordinating with the interested parties, the Department is extending the deadline for the final results to accommodate parties' public hearing requests so that parties may address all issues. Additionally, the Department requires additional time to complete the analysis of certain fact-intensive issues, such as questions regarding the selection of surrogate values, raised in the case briefs. For the reasons noted above, we are extending the time for the completion of the final results of this review by 60 days to June 9, 2008.

This notice is published in accordance with sections 751(a)(1) and 777(i)(1) of the Act.

Dated: March 14, 2008.
Stephen J. Claeys,
Deputy Assistant Secretary for Import Administration.

[FR Doc. E8-6449 Filed 3-27-08; 8:45 am]

Billing Code: 3510-DS-S